DEPARTMENT OF DEFENSE

Office of the Secretary

[Transmittal Nos. 10-56]

36(b)(1) Arms Sales Notification

AGENCY: Department of Defense, Defense Security Cooperation Agency.

ACTION: Notice.

SUMMARY: The Department of Defense is publishing the unclassified text of a section 36(b)(1) arms sales notification. This is published to fulfill the requirements of section 155 of Public Law 104-164 dated July 21, 1996.

FOR FURTHER INFORMATION CONTACT: Ms. B. English, DSCA/DBO/CFM, (703) 601-3740.

The following is a copy of a letter to the Speaker of the House of Representatives, Transmittals 10-56 with attached transmittal, policy justification, and Sensitivity of Technology.

Dated: December 5, 2011.
Aaron Siegel,
Alternate OSD Federal Register Liaison Officer, Department of Defense.

BILLING CODE 5001-06-P

BILLING CODE 5001-06-C

Transmittal No. 10-56

Notice of Proposed Issuance of Letter of Offer Pursuant to Section 36(b)(1) of the Arms Export Control Act, as amended

(i) Prospective Purchaser: United Arab Emirates

(ii) Total Estimated Value:

Major Defense Equipment* | $259 million.
Other | $ 45 million.
Total | $304 million.
* As defined in Section 47(6) of the Arms Export Control Act.

(iii) Description and Quantity or Quantities of Articles or Services under Consideration for Purchase: 4900 JDAM kits which includes 304 GBU-54 Laser JDAM kits with 304 DSU-40 Laser Sensors, 3000 GBU-38(V)1 JDAM kits, 1000 GBU-31(V)1 JDAM kits, 600 GBU-31(V)3 JDAM kits, 3300 BLU-111 500lb General Purpose Bombs, 1000 BLU-117 2000lb General Purpose Bombs, 600 BLU-109 2000lb Hard Target Penetrator Bombs, and four BDU-50C inert bombs, fuzes, weapons integration, munitions trainers, personnel training and training equipment, spare and repair parts, support equipment, U.S. government and contractor engineering, logistics, and technical support, and other related elements of program support.

(iv) Military Department: Air Force (YAC Amd #3).

(v) Prior Related Cases, if any:

FMS case YAB-$156M—31Aug02.

FMS case YAC-$699M—04Mar08.

(vi) Sales Commission, Fee, etc., Paid, Offered, or Agreed to be Paid: None.

(vii) Sensitivity of Technology Contained in the Defense Article or Defense Services Proposed to be Sold: See Annex attached.

(viii) Date Report Delivered to Congress: 29 November 2011.

Policy Justification

United Arab Emirates—Joint Direct Attack Munitions

The Government of the United Arab Emirates (UAE) has requested a possible sale of 4900 JDAM kits which includes 304 GBU-54 Laser JDAM kits with 304 DSU-40 Laser Sensors, 3000 GBU-38(V)1 JDAM kits, 1000 GBU-31(V)1 JDAM kits, 600 GBU-31(V)3 JDAM kits, 3300 BLU-111 500lb General Purpose Bombs, 1000 BLU-117 2000lb General Purpose Bombs, 600 BLU-109 2000lb Hard Target Penetrator Bombs, and four BDU-50C inert bombs, fuzes, weapons integration, munitions trainers, personnel training and training equipment, spare and repair parts, support equipment, U.S. government and contractor engineering, logistics, and technical support, and other related elements of program support. The estimated cost is $304 million.

This proposed sale will contribute to the foreign policy and national security of the United States by helping to improve the security of a key partner that has been, and continues to be, an important force for political stability and economic progress in the Middle East. The UAE Government continues vital host-nation support of U.S. forces stationed at Al Dhafra Air Base, plays an important role in supporting U.S. regional interests, and has proven to be a valued partner in overseas operations.

The proposed sale will improve the UAE's capability to meet current and future regional threats. The UAE Air Force and Air Defense (AF&AD) continue to operate the F-16 Block 60 aircraft. These additional munitions will ensure operational capability and will help the UAE AF&AD become one of the most capable air forces in the region, thereby serving U.S. interests by deterring regional aggression. These munitions will be used to complement the normal war-readiness reserve stockpile of munitions and provide munitions for routine training requirements. The UAE will have no difficulty absorbing these munitions into its air force.

The proposed sale of this equipment and support will not alter the basic military balance in the region.

The prime contractor will be The Boeing Company in Chicago, Illinois, and McAlester Army Ammunition Plant in McAlester, Oklahoma. There are no known offset agreements proposed in connection with this potential sale.

Implementation of this proposed sale will require the assignment of additional U.S. Government or contractor representatives to the UAE. The number of U.S. Government and contractor representatives required to support the program will be determined in joint negotiations as the program proceeds through the development, production and equipment installation phases.

There will be no adverse impact on U.S. defense readiness as a result of this proposed sale.

Transmittal No. 10-56

Notice of Proposed Issuance of Letter of Offer Pursuant to Section 36(b)(1) of the Arms Export Control Act

Annex Item No. vii

(vii) Sensitivity of Technology:

1. The GBU-54 is a 500lb JDAM variant that includes a DSU-40 Laser Sensor. The GBU-54 uses global position system aided inertial navigation and/or laser detection to guide to threat targets. The Laser sensor enhances standard JDAM's reactive target capability by allowing rapid prosecution of fixed targets with large initial target location errors (TLE). The DSU-40 Laser sensor also provides the capability to engage some mobile targets. The DSU-40 Laser sensor is attached to a MK-82 or BLU-111 bomb body in the forward fuze well. The addition of the DSU-40 Laser sensor combined with additional cabling and mounting hardware turns a standard GBU-38 JDAM into a GBU-54 Laser JDAM. Information that might reveal target designation tactics and associated aircraft maneuvers, the probability of destroying specific/peculiar targets, vulnerabilities regarding countermeasures and the electromagnetic environment is classified Secret.

2. The Joint Direct Attack Munition is actually a guidance kit that converts existing unguided free-fall bombs into precision-guided “smart” munitions. By adding a new tail section containing an Inertial Navigation System (INS) guidance/Global Positioning System (GPS) guidance to unguided bombs, the cost effective JDAM provides highly accurate weapon delivery in any “flyable” weather. The INS, using updates from the GPS, helps guide the bomb to the target via the use of movable tail fins.

3. Weapon accuracy is dependent on target coordinates and present position as entered into the guidance control unit. After weapon release, movable tail fins guide the weapon to the target coordinates. In addition to the tail kit, other elements in the overall system that are essential for successful employment include:

Access to accurate target coordinates.

INS/GPS capability.

Operational Test and Evaluation Plan.

4. If a technologically advanced adversary were to obtain knowledge of the specific hardware in the proposed sale, the information could be used to develop countermeasures which might reduce weapons system effectiveness or be used in the development of a system with similar or advanced capabilities.

[FR Doc. 2011-31566 Filed 12-8-11; 8:45 am]

BILLING CODE 5001-06-P